DEPARTMENT OF HEALTH AND HUMAN SERVICES

National Institutes of Health

National Institute on Aging; Notice of Closed Meeting

Pursuant to section 1009 of the Federal Advisory Committee Act, as amended, notice is hereby given of the following meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute on Aging Special Emphasis Panel; Dominantly Inherited Alzheimer Network

Date: February 10, 2025

Time: 12:00 p.m. to 5:00 p.m.

Agenda: To review and evaluate grant applications

Address: National Institute on Aging, 5601 Fishers Lane, Suite 8B, Rockville, MD 20892.

Meeting Format: Virtual Meeting.

Contact Person: Joshua Jin-Hyouk Park, Ph.D., Scientific Review Officer, National Institute on Aging, National Institutes of Health, 5601 Fishers Lane, Suite 8B Rockville, MD 20852, (301) 496-6208, joshua.park4@nih.gov.

(Catalogue of Federal Domestic Assistance Program Nos. 93.866, Aging Research, National Institutes of Health, HHS)

Dated: December 19, 2024.
Miguelina Perez,
Program Analyst, Office of Federal Advisory Committee Policy.

[FR Doc. 2024-30877 Filed 12-27-24; 8:45 am]

BILLING CODE 4140-01-P